DEPARTMENT OF THE TREASURY

Open Meeting of the Federal Advisory Committee on Insurance

AGENCY: Departmental Offices, U.S. Department of the Treasury.

ACTION: Notice of open meeting.

SUMMARY: This notice announces that the Department of the Treasury's Federal Advisory Committee on Insurance (“Committee”) will convene a meeting on Thursday, February 22, 2018, in the Cash Room, 1500 Pennsylvania Avenue NW, Washington, DC 20220, from 1:00-5:00 p.m. Eastern Time. The meeting is open to the public, and the site is accessible to individuals with disabilities.

DATES: The meeting will be held on Thursday, February 22, 2018, from 1:00-5:00 p.m. Eastern Time.

ADDRESSES: The Committee meeting will be held in the Cash Room, Department of the Treasury, 1500 Pennsylvania Avenue NW, Washington, DC 20220.

The meeting will be open to the public. Because the meeting will be held in a secured facility, members of the public who plan to attend the meeting must register online at http://www.cvent.com/d/wtqfp1 and fill out the secure online registration form. A valid email address will be required to complete the online registration. (Note: The online registration will close at 12:00 p.m. Eastern Time on Monday, February 19, 2018.)

Requests for reasonable accommodations under Section 504 of the Rehabilitation Act should be directed to Mariam G. Harvey, Office of Civil Rights and Diversity, Department of the Treasury, at 202-622-0316 or mariam.harvey@do.treas.gov.

FOR FURTHER INFORMATION CONTACT: Daniel McCarty, Federal Insurance Office, Room 1410, Department of the Treasury, 1500 Pennsylvania Avenue NW, Washington, DC 20220 at 202-622-5892 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. II, 10(a)(2), through implementing regulations at 41 CFR 102-3.150.

Public Comment: Members of the public wishing to comment on the business of the Federal Advisory Committee on Insurance are invited to submit written statements by any of the following methods:

Electronic Statements

• Send electronic comments to faci@treasury.gov.

Paper Statements

• Send paper statements triplicate to the Federal Advisory Committee on Insurance, Room 1410, Department of the Treasury, 1500 Pennsylvania Avenue NW, Washington, DC 20220.

In general, the Department of the Treasury will post all statements on its website (http://www.treasury.gov/about/organizational-structure/offices/Pages/Federal-Insurance.aspx) without change, including any business or personal information provided such as names, addresses, email addresses, or telephone numbers. The Department of the Treasury will also make such statements available for public inspection and copying in the Department of the Treasury's Library, 1500 Pennsylvania Avenue NW, Washington, DC 20220, on official business days between the hours of 10:00 a.m. and 5:00 p.m. Eastern Time. You can make an appointment to inspect statements by telephoning (202) 622-0990. All statements, including attachments and other supporting materials, received are part of the public record and subject to public disclosure. You should submit only information that you wish to make available publicly.

Tentative Agenda/Topics for Discussion: This is a periodic meeting of the Federal Advisory Committee on Insurance. In this meeting, the Committee will discuss topics including: Efforts to promote loss mitigation, long-term care insurance, an update on the activities of the Federal Insurance Office, and other issues. Due to scheduling challenges, this meeting is being announced with less than 15 days' notice (see 41 CFR 102-3.150(b)).

Steven E. Seitz,
Deputy Director, Federal Insurance Office.

[FR Doc. 2018-02559 Filed 2-8-18; 8:45 am]

BILLING CODE 4810-25-P